DEPARTMENT OF ENERGY

Federal Energy Regulatory Commission

Combined Notice of Filings

Take notice that the Commission has received the following Natural Gas Pipeline Rate and Refund Report filings:

Filings Instituting Proceedings

Docket Numbers: RP24-164-000.

Applicants: Carolina Gas Transmission, LLC.

Description: Motion Filing: CGT—Rate Case Motion Filing to be effective 6/1/2024.

Filed Date: 5/30/24.

Accession Number: 20240530-5108.

Comment Date: 5 p.m. ET 6/11/24.

Docket Numbers: RP24-780-000.

Applicants: Maritimes & Northeast Pipeline, LLC.

Description: § 4(d) Rate Filing: Maritimes & Northeast Pipeline, LLC 2024 Section 4 Rate Case Filing to be effective 7/1/2024.

Filed Date: 5/30/24.

Accession Number: 20240530-5043.

Comment Date: 5 p.m. ET 6/11/24.

Docket Numbers: RP24-781-000.

Applicants: Algonquin Gas Transmission, LLC.

Description: § 4(d) Rate Filing: Algonquin Gas Transmission, LLC 2024 Section 4 Rate Case Filing to be effective 7/1/2024.

Filed Date: 5/30/24.

Accession Number: 20240530-5056.

Comment Date: 5 p.m. ET 6/11/24.

Docket Numbers: RP24-782-000.

Applicants: MarkWest Pioneer, LLC.

Description: § 4(d) Rate Filing: Quarterly Fuel Adjustment Filing to be effective 7/1/2024.

Filed Date: 5/30/24.

Accession Number: 20240530-5069.

Comment Date: 5 p.m. ET 6/11/24.

Docket Numbers: RP24-783-000.

Applicants: El Paso Natural Gas Company, LLC.

Description: § 4(d) Rate Filing: Negotiated Rate Agreement Update (Conoco June 2024) to be effective 6/1/2024.

Filed Date: 5/30/24.

Accession Number: 20240530-5153.

Comment Date: 5 p.m. ET 6/11/24.

Docket Numbers: RP24-784-000.

Applicants: Columbia Gas Transmission, LLC.

Description: § 4(d) Rate Filing: Housekeeping Clean-Up to be effective 7/1/2024.

Filed Date: 5/30/24.

Accession Number: 20240530-5168.

Comment Date: 5 p.m. ET 6/11/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-164-002.

Applicants: Carolina Gas Transmission, LLC.

Description: Compliance filing: CGT—Rate Case Motion Filing (Revised Tariff Record) to be effective 6/1/2024.

Filed Date: 5/30/24.

Accession Number: 20240530-5113.

Comment Date: 5 p.m. ET 6/11/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 30, 2024.
Debbie-Anne A. Reese,
Acting Secretary.

[FR Doc. 2024-12328 Filed 6-4-24; 8:45 am]

BILLING CODE 6717-01-P